INTERNATIONAL TRADE COMMISSION

[Investigation No. 337-TA-1215]

Certain Mobile Electronic Devices and Laptop Computers; Notice of Commission Determination Not to Review an Initial Determination Terminating the Investigation Based on Settlement; Termination of Investigation

AGENCY: U.S. International Trade Commission.

ACTION: Notice.

SUMMARY: Notice is hereby given that the U.S. International Trade Commission has determined not to review an initial determination (“ID”) (Order No. 15) of the presiding administrative law judge (“ALJ”) granting complainant and respondent's joint motion to terminate the investigation in its entirety based on settlement. The investigation is terminated.

FOR FURTHER INFORMATION CONTACT: Richard P. Hadorn, Esq., Office of the General Counsel, U.S. International Trade Commission, 500 E Street SW, Washington, DC 20436, telephone (202) 205-3179. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal, telephone (202) 205-1810.

SUPPLEMENTARY INFORMATION: On August 24, 2020, the Commission instituted this investigation based on a complaint filed by Maxell, Ltd. (“Maxell”) of Japan. 85 FR 52153-54 (Aug. 24, 2020). The complaint alleges violations of section 337 of the Tariff Act of 1930, as amended (19 U.S.C. 1337), based on the importation into the United States, the sale for importation, or the sale within the United States after importation of certain mobile electronic devices and laptop computers by reason of infringement of certain claims of U.S. Patent Nos. 7,203,517; 8,982,086 (“the '086 patent”); 7,199,821 (“the '821 patent”); 10,129,590 (“the '590 patent”); and 10,176,848 (“the '848 patent”). Id. at 52153. The complaint further alleges that a domestic industry exists. Id. The notice of investigation named as respondent Apple Inc. (“Apple”) of Cupertino, California. Id. The Office of Unfair Import Investigations (“OUII”) is also named as a party. Id.

On February 24, 2021, the Commission determined to terminate the investigation as to the '848 patent based on withdrawal of the allegations in the complaint as to that patent. Order No. 9 (Feb. 9, 2021), unreviewed by Comm'n Notice (Feb. 24, 2021). On March 15, 2021, the Commission determined to terminate the investigation as to (i) claims 3 and 5-10 of the '590 patent, (ii) claim 3 of the '086 patent, (iii) all asserted claims of the '590 and '821 patents with respect to Apple's MacOS products only, and (iv) Apple's affirmative defense of lack of standing based on the private parties' withdrawal of their respective allegations in the complaint and answer as to those issues. Order No. 14 (Feb. 19, 2021), unreviewed by Comm'n Notice (Mar. 15, 2021).

On March 25, 2021, Maxell and Apple filed a joint motion to terminate the investigation in its entirety based on settlement. That same day, OUII filed a response in support of the motion.

On March 29, 2021, the ALJ issued the subject ID granting the motion. The ID finds that the motion complies with the requirements of Commission Rule 210.21(b) (19 CFR 210.21(b)) and that “the public interest generally favors settlement to avoid needless litigation and to conserve public resources.” ID at 2. No petitions for review of the subject ID were filed.

The Commission has determined not to review the subject ID. The investigation is hereby terminated in its entirety.

The Commission vote for this determination took place on April 9, 2021.

The authority for the Commission's determination is contained in section 337 of the Tariff Act of 1930, as amended (19 U.S.C. 1337), and in Part 210 of the Commission's Rules of Practice and Procedure (19 CFR part 210).

By order of the Commission.
Issued: April 9, 2021.
Lisa Barton,
Secretary to the Commission.

[FR Doc. 2021-07642 Filed 4-13-21; 8:45 am]

BILLING CODE 7020-02-P